ENVIRONMENTAL PROTECTION AGENCY

[EPA-HQ-OW-2016-0686; FRL-9958-49-OW]

Request for Nominations for Peer Reviewers and for Public Comment on Peer Review Materials To Inform the Derivation of a Water Concentration Value for Lead in Drinking Water

AGENCY: Environmental Protection Agency (EPA).

ACTION: Notice; request for nominations for peer reviewers and request for public comment.

SUMMARY: The Environmental Protection Agency (EPA) is announcing the release of materials for public comment that relate to the expert external peer review of documents intended to support the EPA's Safe Drinking Water Act assessment of lead in drinking water. EPA invites the public to nominate scientific experts to be considered as peer reviewers for the contract-managed peer review. Nominations of peer review candidates will be accepted by EPA's contractor, Eastern Research Group, Inc. (ERG). EPA also requests public comment on the draft report entitled “Proposed Modeling Approaches for a Health Based Benchmark for Lead in Drinking Water” and the draft charge questions for the expert peer review panel. These materials will be reviewed by an expert peer review panel and public comments will be made available to the peer reviewers for consideration in their review.

DATES: The nominations for expert peer review candidates must be received by ERG on or before February 21, 2017. Comments on the draft lead modeling report and draft peer review panel charge questions must be received by EPA on or before March 6, 2017.

ADDRESSES: Any interested person or organization may nominate scientific experts to be considered as peer reviewers. Nominations should be submitted to ERG no later than February 21, 2017 by one of the following methods:

• Email: peerreview@erg.com (subject line: Lead in Drinking Water Peer Review)

• Mail: Eastern Research Group, Inc. (ERG), 110 Hartwell Avenue, Lexington, MA 02421, ATTN: Laurie Waite (must arrive by nomination deadline).

Nominations should include all nominee information outlined in section III of the SUPPLEMENTARY INFORMATION section of this document.

Submit your comments on the draft lead modeling report and draft charge, identified by Docket ID No. EPA-HQ-OW-2016-0686, to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment content located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Questions concerning nominations of expert peer reviewers should be directed to Eastern Research Group, Inc. (ERG), 110 Hartwell Avenue, Lexington, MA 02421; by email at peerreview@erg.com (subject line: Lead in Drinking Water Peer Review); or by phone: (781) 674-7362 (ask for Laurie Waite).

For additional information concerning the draft lead modeling report and draft peer review charge questions, please contact Erik Helm at the U.S. Environmental Protection Agency, Office of Ground Water and Drinking Water, Standards and Risk Management Division, (Mail Code 4607M), 1200 Pennsylvania Avenue NW., Washington, DC 20460; by phone: 202-566-1049; or by email: helm.erik@epa.gov.

SUPPLEMENTARY INFORMATION:

I. Information on EPA's Lead in Drinking Water Modeling

EPA's Office of Ground Water and Drinking Water is in the process of considering National Primary Drinking Water Regulations for Lead and Copper: Regulatory Revisions (LCR) to improve public health protection by making changes to rule requirements under the Safe Drinking Water Act (SDWA). EPA has engaged with stakeholder groups and the public to inform revisions to the LCR. As part of this work, the EPA's National Drinking Water Advisory Committee (NDWAC) Lead and Copper Rule Working Group was established to inform NDWAC advice to the Administrator on recommendations to strengthen public health protections of the Lead and Copper Rule. In December 2015, the NDWAC provided specific recommendations to the EPA Administrator for LCR revisions related to lead service line replacement, public education, corrosion control treatment, copper, tap sampling, and the establishment of a “household action level.” The NDWAC recommended that water systems be required to notify the consumer and the local public health agency if this level was exceeded, with the expectation that individuals and local health officials will use this information to take prompt actions at the household level to mitigate lead risks.

While EPA has not yet determined the specific role of a household action level in the revised LCR, the Agency has developed potential scientific modeling approaches to define the relationship between lead levels in drinking water and blood lead levels, particularly for sensitive life stages such as formula fed infants and children up to age seven. EPA is using the terminology “health based benchmark” to refer to this concept. EPA is conducting an expert peer review of alternative approaches to inform future consideration of a health based benchmark for the LCR revisions. The purpose of this review is to obtain feedback on various lead modeling methods that can be used to characterize the relationship between lead in drinking water and children's blood lead levels.

EPA has developed three approaches that model how lead in drinking water influences blood lead levels (BLLs) of children. All the approaches use the Integrated Exposure Uptake and Biokinetic (IEUBK) Model for Lead in Children. Approaches 1 and 2 assess the relationship between water lead concentration and potential BLLs at different points in the IEUBK predicted distribution of BLLs. Approach 3 uses EPA's Stochastic Human Exposure and Dose Simulation model for multimedia, multipathway chemicals (SHEDS-Multimedia), coupled with IEUBK, to determine the drinking water lead concentrations that would result in BLLs at particular percentiles of a simulated national distribution of BLLs for children at various ages.

II. How To Obtain the Draft Lead Modeling Report and the Draft Peer Review Charge Questions

EPA's draft lead modeling report entitled “Proposed Modeling Approaches for a Health Based Benchmark for Lead in Drinking Water” and the draft charge for the peer review panel are available electronically and can be accessed using the Public Docket at http://www.regulations.gov (Docket ID No. EPA-HQ-OW-2016-0686). All written comments must be submitted during the public comment period.

III. How To Submit Nominations for Peer Reviewers

Expertise sought: EPA is seeking candidates who are nationally and/or internationally recognized scientific experts to serve as external peer reviewers for the draft report regarding approaches to modeling children's BLL associated with lead in drinking water. The review is not intended to provide EPA with advice on the public health implications of alternative BLLs. As such, EPA is seeking nominees who possess a strong background and demonstrated expertise in one or more of the following areas: (1) Physiologically Based Pharmacokinetic modeling, particularly with regard to lead, (2) environmental lead exposure analyses, particularly with regard probabilistic modeling.

Selection criteria: Selection criteria for individuals nominated to serve as external peer reviewers of the draft report include the following: (1) Demonstrated expertise through relevant peer reviewed publications; (2) professional accomplishments and recognition by professional societies; (3) demonstrated ability to work constructively and effectively in a committee setting; (4) absence of financial conflicts of interest; (5) no actual conflicts of interest or appearance of lack of impartiality; (6) willingness to commit adequate time for the thorough review of the draft report; and (7) availability to participate in-person in a one-day or two-day peer review meeting in the Washington, DC metro area, projected to occur in June 2017 (exact date will be published in the Federal Register at least 30 days prior to the external peer review meeting). Further logistical information regarding the external peer review meeting will be announced at a later date in the Federal Register.

Required nominee information: To receive full consideration, the following information should be submitted to ERG at peerreview@erg.com (the subject line should read: Lead in Drinking Water Peer Review): (1) Contact information for the person making the nomination; (2) contact information for the nominee; (3) the disciplinary and specific areas of expertise of the nominee; (4) the nominee's curriculum vitae; and (5) a biographical sketch of the nominee indicating current position, educational background, past and current research activities, recent service on other advisory committees, peer review panels, editorial boards or professional organizations, sources of recent grant and/or contract support and other comments on the relevance of the nominee's expertise to this peer review topic. Compensation for non-federal peer reviewers will be provided by ERG.

Selection process: EPA's contractor, ERG, will notify nominees of selection or non-selection. ERG may also conduct an independent search for candidates to assemble a balanced group representing the expertise needed to fully evaluate EPA's draft report, entitled “Proposed Modeling Approaches for a Health Based Benchmark for Lead in Drinking Water.” ERG will consider and screen all nominees against the criteria previously listed. Following the screening process, ERG will narrow the list of potential reviewers to approximately 10-16 candidates. Prior to selecting the final peer reviewers, a Federal Register document will be published (exact date to be determined) to solicit comments on the interim list of candidates. In that document, the public will be requested to provide relevant information or documentation on the nominees within 30 days of the announcement of the interim list of candidates. Once ERG has considered the public comments on the interim list of candidates, ERG will select the final list of peer reviewers, based on who, collectively, will best provide expertise spanning the disciplines previously listed and (to the extent feasible) best provide a balance of perspectives.

Dated: January 10, 2017.
Joel Beauvais,
Deputy Assistant Administrator, Office of Water.

[FR Doc. 2017-01228 Filed 1-18-17; 8:45 am]

BILLING CODE 6560-50-P